DEPARTMENT OF COMMERCE

National Oceanic and Atmospheric Administration

50 CFR Part 622

[Docket No. 15060302-5999-02]

RIN 0648-BF14

Fisheries of the Caribbean, Gulf of Mexico, and South Atlantic; Coastal Migratory Pelagic Resources in the Gulf of Mexico and Atlantic Region; Framework Amendment 3

Correction

In notice document 2015-31708 beginning on page 78670 in the issue of Thursday, December 17, 2015, make the following corrections:

1. On page 78671, in the third column, in the eleventh line, “February 16, 2015” should read “February 16, 2016”.

§ 622.372 Limited access system for king mackerel gillnet permits applicable in the southern Florida west coast subzone.

2. On page 78675, in the first column, in the eighth line, “February 16, 2015” should read “February 16, 2016”.

[FR Doc. C1-2015-31708 Filed 12-24-15; 8:45 am]

BILLING CODE 1505-01-D